DEPARTMENT OF JUSTICE

Notice of Lodging of Proposed Consent Decree Under the Comprehensive Environmental Response, Compensation, and Liability Act

On July 22, 2024 the Department of Justice lodged a proposed Consent Decree with the United States District Court for the Eastern District of Missouri in the lawsuit entitled United States and State of Missouri v. BP America, Inc. and The Standard Oil Company (Ohio) Civil Action No. 1:24-cv-0139.

The United States' and State of Missouri's joint complaint alleges that the defendants are liable under section 107(a) of the Comprehensive Environmental Response, Compensation, and Liability Act, 42 U.S.C. 9607(a) and section 311 of the Clean Water Act, 33 U.S.C. 1321, for natural resource damages resulting from releases of hazardous substances at and from the Sweetwater Mine and Mill Complex in Reynolds County, Missouri (the “Site”). The Consent Decree requires the settling defendants, BP America, Inc. and The Standard Oil Company (Ohio) to pay $1.05 million to the United States and State of Missouri. Under the Consent Decree, the United States and State of Missouri covenant not to sue the settling defendants for natural resource damages resulting from releases of hazardous substances at or from the Site.

The publication of this notice opens a period for public comment on the Consent Decree. Comments should be addressed to the Assistant Attorney General, Environment and Natural Resources Division, and should refer to United States and State of Missouri v. BP America, Inc. and The Standard Oil Company (Ohio), D.J. Ref. No. 90-11-3-09424/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. If you require assistance accessing Consent Decree, you may request assistance by email or by mail to the addresses provided above for submitting comments.

Eric D. Albert,
Assistant Section Chief, Environmental Enforcement Section, Environment and Natural Resources Division.

[FR Doc. 2024-16512 Filed 7-25-24; 8:45 am]

BILLING CODE 4410-15-P